DEPARTMENT OF HEALTH AND HUMAN SERVICES

National Institutes of Health

National Toxicology Program Board of Scientific Counselors; Announcement of Meeting; Request for Comments

AGENCY: National Institutes of Health, HHS.

ACTION: Notice.

SUMMARY: This notice announces the next meeting of the National Toxicology Program (NTP) Board of Scientific Counselors (BSC). The BSC, a federally chartered, external advisory group composed of scientists from the public and private sectors, will review and provide advice on programmatic activities. This meeting is a virtual meeting and is open to the public. Written comments will be accepted and registration is required to present oral comments.

DATES:

Meeting: Scheduled for May 4, 2023, 12:30 p.m.-6:00 p.m. Eastern Daylight Time (EDT). Ending time is approximate; meeting may end earlier or run later.

Written Public Comment Submissions: Deadline is April 28, 2023.

Registration for Oral Comments: Deadline is April 28, 2023.

ADDRESSES:

Meeting Web Page: The preliminary agenda, registration, and other meeting materials will be available at https://ntp.niehs.nih.gov/go/165 by April 10, 2023.

Virtual Meeting: The URL for viewing the virtual meeting will be provided on the meeting web page the day before the meeting.

FOR FURTHER INFORMATION CONTACT: Dr. Milene Brownlow, Designated Federal Officer for the BSC, Office of Policy, Review, and Outreach, Division of Translational Toxicology, NIEHS. Phone: 984-287-3364, Email: milene.brownlow@nih.gov. Hand Deliver/Courier address: 530 Davis Drive, Room K2136, Morrisville, NC 27560.

SUPPLEMENTARY INFORMATION: The NTP conducted a systematic review to evaluate the neurobehavioral health effects from exposure to fluoride during development and prepared a Draft State of the Science Monograph and a Draft Meta-Analysis Manuscript. Both draft documents were then reviewed internally by various Department of Health and Human Services (HHS) entities and, additionally, the Draft State of the Science Monograph underwent external peer review by five scientific experts. Subsequently, the NTP Director decided to seek additional review of both documents from the NTP BSC. In 2022, the NTP Director and the NTP BSC Chair jointly made the decision to convene an independent working group of subject-matter experts to assist the BSC in reviewing the input on the Draft State of the Science Monograph and Draft Meta-Analysis Manuscript along with NTP authors' responses to the comments. The BSC Working Group has prepared a report with its recommendations on whether the authors sufficiently addressed internal and external scientific comments. The preliminary agenda topic for the meeting on May 4, 2023, is BSC's deliberation on the BSC Working Group's report.

The preliminary agenda, working group report, roster of BSC members, background materials, public comments, and any additional information, when available, will be posted on the BSC meeting web page (https://ntp.niehs.nih.gov/go/165) and minutes will be available on the BSC meeting web page within 90 calendar days of the meeting.

Meeting Attendance Registration: The meeting is open to the public with time scheduled for oral public comments. Registration is not required to view the virtual meeting; the URL for the virtual meeting will be provided on the BSC meeting web page (https://ntp.niehs.nih.gov/go/165), the day before the meeting. TTY users should contact the Federal TTY Relay Service at 800-877-8339. Requests should be made at least five business days in advance of the event.

Written Public Comments: NTP invites written public comments. Guidelines for public comments are available at https://ntp.niehs.nih.gov/ntp/about_ntp/guidelines_public_comments_508.pdf.

The deadline for submission of written comments is April 28, 2023. Written public comments should be submitted through the meeting web page. Persons submitting written comments should include name, affiliation, mailing address, phone, email, and sponsoring organization (if any). Written comments received in response to this notice will be posted on the NTP web page, and the submitter will be identified by name, affiliation, and sponsoring organization (if any).

Oral Public Comment Registration: The agenda allows for one public comment period on the agenda topic (up to 12 commenters, up to five minutes per speaker). Persons wishing to make an oral comment are required to register online at https://ntp.niehs.nih.gov/go/165 by April 28, 2023. Oral comments will be received only during the formal comment period indicated on the preliminary agenda. Registration is on a first-come, first-served basis. Each organization is allowed one time slot. After the maximum number of speakers is exceeded, individuals registered to provide oral comment will be placed on a wait list and notified should an opening become available. Logistical information for presentations will be provided to commenters approximately 2-3 days before the meeting.

If possible, oral public commenters should send a copy of their slides and/or statement or talking points to NTP-Meetings@icf.com by April 28, 2023.

Meeting Materials: The preliminary meeting agenda will be available on the meeting web page (https://ntp.niehs.nih.gov/go/165) by April 10, 2023. Individuals are encouraged to access the meeting web page periodically to stay abreast of the most current information regarding the meeting.

Background Information on the BSC: The BSC is a technical advisory body comprised of scientists from the public and private sectors that provides primary scientific oversight to the NTP. Specifically, the BSC advises the NTP on matters of scientific program content, both present and future, and conducts periodic review of the program for the purpose of determining and advising on the scientific merit of its activities and their overall scientific quality. Its members are selected from recognized authorities knowledgeable in fields such as toxicology, pharmacology, pathology, epidemiology, risk assessment, carcinogenesis, mutagenesis, cellular biology, computational toxicology, neurotoxicology, genetic toxicology, reproductive toxicology or teratology, and biostatistics. Members serve overlapping terms of up to four years. The BSC usually meets periodically. The authority for the BSC is provided by 42 U.S.C. 217a, section 222 of the Public Health Service Act (PHS), as amended.

The BSC is governed by the provisions of the Federal Advisory Committee Act, as amended (5 U.S.C. ch. 10), which sets forth standards for the formation and use of advisory committees.

Dated: March 27, 2023.
Richard P. Woychik,
Director, National Institute of Environmental Health Sciences and National Toxicology Program, National Institutes of Health.

[FR Doc. 2023-06678 Filed 3-30-23; 8:45 am]

BILLING CODE 4140-01-P